DEPARTMENT OF COMMERCE

National Oceanic and Atmospheric Administration

Science Advisory Board

AGENCY: Office of Oceanic and Atmospheric Research, NOAA, DOC.

ACTION: Notice of open meeting.

SUMMARY: The Science Advisory Board (SAB) was established by a Decision Memorandum dated September 25, 1997, and is the only Federal Advisory Committee with responsibility to advise the Under secretary of Commerce for Oceans and Atmosphere on long- and short-range strategies for research, education, and application of science to resource management. SAB activities and advice will provide necessary input to ensure that National Oceanic and Atmospheric Administration (NOAA) science programs are of the highest quality and provide optimal support to resource management.

Time and Date: The meeting will be held Wednesday, April 5, 2000, from 8:00 a.m. to 5:30 p.m.; Thursday, April 6, 2000, from 8:00 a.m. to 5:00 p.m.; and Friday, April 7, 2000, from 8:00 a.m. to 5:30 p.m.

Place: American Geophysical Union, 2000 Florida Avenue, NW, Washington, DC.

Status: The meeting will be open to public participation with two 30-minute time periods set aside during the meeting for direct verbal comments or questions from the public. The SAB expects that public statements presented at its meeting swill not be repetitive of previously submitted verbal or written statements. In general, each individual or group making a verbal presentation will be limited to a total time of five (5) minutes. Written comments (at least 35 copies) should be received in the SAB Executive Director's Office by March 29, 2000, in order to provide sufficient time for SAB review. Written comments received by the SAB Executive Director after March 29 will be distributed to the SAB, but may not be reviewed prior to the meeting date. Approximately thirty (30) seats will be available for the public including five (5) seats reserved for the media. Seats will be available on a first-come first-served basis.

Matters to Be Considered: The meeting will include the following topics: (1) Overview and SAB discussion of FY 2000 NOAA budget, (2) NOAA update to SAB recommendations concerning the establishment of three pilot SAB Working Groups to develop review processes that will be used to review various NOAA science efforts (see http://www.sab.noaa.gov/oct1999finalminutes.html, (3) NOAA response to SAB request to establish an Ocean and Coastal Information Dissemination Service (see http://www.sab.noaa.gov/oct1999finalminutes.html), (4) Discussion of the SAB Report for the next NOAA Administrator, (5) Public Input Session with SAB discussion, (6) Presentations and SAB discussion of the “Census of Marine Life” and NOAA's Ocean Exploration and Research Initiative, (7) Overview and SAB discussion of potential recommendations relating to the NOAA FY 2002 budget request, (8) SAB Sub-Committee and Issue Group Reports, (9) Overview and SAB discussion of NOAA/Universities Administrative Efficiencies Subcommittee, (10) Presentation and SAB discussion of Aquaculture Initiative.

FOR FURTHER INFORMATION CONTACT: Dr. Michael S. Uhart, Executive Director Science Advisory Board, NOAA, Rm. 11142, 1315 East-West Highway, Silver Spring, Maryland 20910 (Phone: 301-713-9121, Fax: 301-713-3515, E-mail: Michael.Uhart@noaa.gov); or visit the NOAA SAB website at www.sab.noaa.gov.

Dated: March 15, 2000.
Louisa Koch,
Deputy Assistant Administrator, OAR.

[FR Doc. 00-6873 Filed 3-20-00; 8:45 am]

BILLING CODE 3510-08-M